SELECTIVE SERVICE SYSTEM

Forms Submitted to the Office of Management and Budget for Extension of Clearance

AGENCY: Selective Service System.

ACTION: Notice.

The following form has been submitted to the Office of Management and Budget (OMB) for extension of clearance without change in compliance with the Paperwork Reduction Act (44 U.S.C. chapter 35):

SSS Forms 1

Title: Selective Service System Registration Form.

Purpose: Used to register males and establish a database for use in identifying manpower to the military services during a national emergency.

Respondents: All 18-year-old males who are United States citizens and those male immigrants residing in the United States at the time of their 18th birthday.

Frequency: Registration with the Selective Service System is a one-time occurrence.

Burden: A burden of two minutes or less on the individual respondent.

Change: None.

Copies of the above-identified forms can be obtained upon written request to the Selective Service System, Public & Intergovernmental Affairs Directorate, 1501 Wilson Boulevard, Arlington, Virginia 22209.

Written comments and recommendations for the proposed extension of clearance of the forms should be sent within 30 days of the publication of this notice to: Daniel A. Lauretano, Sr., General Counsel/Federal Register Liaison, Selective Service System, 1501 Wilson Boulevard, Arlington, Virginia 22209.

A copy of the comments should be sent to the Office of Information and Regulatory Affairs, Attention: Desk Officer, Selective Service System, Office of Management and Budget, New Executive Office Building, Room 3235, Washington, DC 20503.

Daniel A. Lauretano, Sr.,
General Counsel/Federal Register Liaison.

[FR Doc. 2024-20227 Filed 9-6-24; 8:45 am]

BILLING CODE 8015-01-P